DEPARTMENT OF TRANSPORTATION

Federal Highway Administration

Environmental Impact Statement; Collier County, FL

AGENCY: Federal Highway Administration (FHWA), DOT.

ACTION: Notice of Intent.

SUMMARY: The FHWA is issuing this notice to advise the public that an Environmental Impact Statement (EIS) will be prepared for a proposed highway project in Collier County, Florida.

FOR FURTHER INFORMATION CONTACT: BSB Murthy, Transportation Engineer, Federal Highway Administration, 545 John Knox Road, Suite 200, Tallahassee, Florida 32303, Telephone 850-942-9650.

SUPPLEMENTARY INFORMATION: The FHWA, in cooperation with the Florida Department of Transportation, will prepare an EIS for a proposal to connect the proposed State Road (SR) 29 in Collier County, Florida. The proposed roadway improvement will consist of increasing capacity on SR 29 between Oil Well Road and SR 82, a distance of approximately 17 miles. The proposed project involves evaluating the widening of the existing two-lane undivided segment of SR 29 to four lanes, as well as the study of an alternative route that bypasses downtown Immokalee.

The expansion of SR 29 between Oil Well Road and SR 82 is identified as a needs project within the Collier County Metropolitan Organization (MPO) 2030 Long Range Transportation Plan (LRTP) and is consistent with Collier County’s adopted Growth Management Plan. This capacity improvement is intended to accommodate travel demand generated by population and employment growth, as well as approved development in the project study area. In addition, this improvement is anticipated to enhance emergency evacuation capacity and traffic circulation. This enhancement will improve the circulation of goods, as SR 29 serves as a key intrastate freight corridor providing access to local agriculture and ranching operations, as well as to freight activity centers located in central Florida and populated coastal areas.

Alternatives under consideration include (1) Taking no action; (2) widen existing SR 29 from two to four lanes beginning at Oil Well Road and ending at SR 82, and (3) a new alignment within the project study area that bypasses downtown Immokalee.

Letters describing the proposed action and soliciting comments will be sent to appropriate Federal, State, and local agencies, and to private organizations and citizens who have expressed interest in this proposal.

A series of public meetings and a public hearing are planned in Collier County between December 2007 and January 2010. Public notice will be given of the time and place of the meetings and hearing. The Draft EIS will be made available for public and agency review and comment. Two sets of formal scoping meetings are planned between November 2007 and December 2008 that will involve affected government agencies, interested groups, and the public. One set of meetings will address purpose and need, and the second set will address alternatives selection.

To ensure that the full range of issues related to the proposed action is addressed and all significant issues identified, comments and suggestions are invited from all interested parties. Comments or questions concerning this proposed action and the EIS should be directed to FHWA at the address provided above.

(Catalog of Federal Domestic Assistance Program Number 20.205, Highway Research, Planning and Construction. The regulations implementing Executive Order 12372 regarding inter-governmental consultation on Federal programs and activities apply to this program.)

Issued on: August 7, 2007.
James Christian,
Assistant Division Director, Tallahassee, Florida.

[FR Doc. 07-4017 Filed 8-16-07; 8:45 am]

BILLING CODE 4910-22-M